DEPARTMENT OF HEALTH AND HUMAN SERVICES

Meeting of the National Biodefense Science Board

AGENCY: Department of Health and Human Services, Office of the Secretary.

ACTION: Notice.

SUMMARY: As stipulated by the Federal Advisory Committee Act, the U.S. Department of Health and Human Services is hereby giving notice that the National Biodefense Science Board (NBSB) will be holding a public meeting. The meeting is open to the public.

DATES: The NBSB will hold a public meeting on September 22, 2011 from 9 a.m. to 5 p.m. E.S.T. The agenda is subject to change as priorities dictate.

ADDRESSES: Almas Temple—Sphinx Grand Ballroom; 1315 K Street, NW., Washington, DC 20005 (adjacent to the Hamilton Crowne Plaza Washington). To attend by teleconference, please check the NBSB September meeting webpage, http://www.phe.gov/Preparedness/legal/boards/nbsb/meetings/Pages/110922meeting.aspx. Individuals who wish to attend the meeting in person should send an e-mail to NBSB@HHS.GOV with “NBSB Registration” in the subject line.

FOR FURTHER INFORMATION: e-mail: NBSB@HHS.GOV

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary and/or the Assistant Secretary for Preparedness and Response on other matters related to public health emergency preparedness and response.

Background: The majority of this public meeting will be dedicated to a discussion of the findings of the NBSB's Anthrax Vaccine Working Group. Subsequent agenda topics will be added as priorities dictate. Any additional agenda topics will be available on the Board's September meeting webpage prior to the public meeting.

Availability of Materials: The meeting agenda and materials will be posted prior to the meeting on the September meeting webpage at http://www.phe.gov/Preparedness/legal/boards/nbsb/meetings/Pages/110922meeting.aspx.

Procedures for Providing Public Input: Any member of the public providing oral comments at the meeting must sign-in at the registration desk and provide his/her name, address, and affiliation. All written comments must be received prior to September 21, 2011 and should be sent by e-mail to NBSB@HHS.GOV with “NBSB Public Comment” as the subject line. Individuals who plan to attend and need special assistance, such as sign language interpretation or other reasonable accommodations, should e-mail nbsb@hhs.gov.

Dated: August 8, 2011.
Nicole Lurie,
Assistant Secretary for Preparedness and Response.

[FR Doc. 2011-21163 Filed 8-17-11; 8:45 am]

BILLING CODE 4150-37-P